DEPARTMENT OF ENERGY

Idaho Operations Office; Industry Materials of the Future (Knowledge Base or Core Activities)

AGENCY: Idaho Operations Office, DOE.

ACTION: Notice of availability of financial assistance solicitation.

SUMMARY: The U.S. Department of Energy, Idaho Operations Office is seeking applications for cost-shared research and development of materials or materials processing methods, in accordance with the Program Plan for the Industrial Materials for the Future Program, available at www.oit.doe.gov. This will be a national effort to research, design, develop, engineer, and test new and improved materials to achieve improvements in energy efficiency, emissions and waste reduction, productivity, product quality, and global competitiveness. Proposals are solicited from universities, and not-for-profit research institutes for research and development leading to new materials and processing methods for eventual use in the Industries of the Future. Universities, and not-for-profits are required to form partnerships for technology development and to work with industry to ensure that core activities will ultimately lead to successful applications in industry. National Labs may partner in these activities but cannot be the prime recipient. Multi-partner collaborations between industry, university, and National Laboratory participants are encouraged. National laboratories will not be eligible for an award under this solicitation.

DATES: The issuance date of Solicitation Number DE-PS07-01ID14123 will be on April 26, 2001. The deadline for receipt of applications will be approximately on May 31, 2001.

ADDRESSES: The solicitation in its full text will be available on the Internet at the following URL address: http://www.id.doe.gov/doeid/PSD/proc-div.html or http://e-center.doe.gov.

Applications should be submitted to: Seb Klein, Procurement Services Division, U.S. Department of Energy, Idaho Operations Office, 850 Energy Drive, Mail Stop 1221, Idaho Falls, Idaho 83401-1563.

FOR FURTHER INFORMATION CONTACT: Seb Klein, Contract Specialist, kleinsm@id.doe gov.

SUPPLEMENTARY INFORMATION: The statutory authority for the program is the Federal Non-Nuclear Energy Research and Development Act of 1974 (Pub. L. 93-577).

The Catalog of Federal Domestic Assistance (CFDA) Number for this program is 81.086.
Issued in Idaho Falls.
R.J. Hoyles,
Director, Procurement Services Division.

[FR Doc. 01-11274 Filed 5-3-01; 8:45 am]

BILLING CODE 6450-01-P